SURFACE TRANSPORTATION BOARD

[Docket No. FD 36632]

Hood River Railroad LLC—Acquisition and Operation Exemption—Mt. Hood Railroad Company

Hood River Railroad LLC (HRR), a noncarrier, has filed a verified notice of exemption pursuant to 49 CFR 1150.31 to acquire from Mt. Hood Railroad Company (MHR) and operate an approximately 21.14-mile rail line extending between milepost 0.0 at Hood River, Or., (at a point of connection with a line of the Union Pacific Railroad Company), and milepost 21.14 at Parkdale, Or. (the Line), which constitutes MHR's entire rail system.

According to the verified notice, HRR and MHR are corporate affiliates indirectly controlled by L. Scott Webster (Mr. Webster). HRR further states that, upon consummation of the transaction, MHR will cease to be a railroad common carrier, and HRR will become one in MHR's place under the indirect control of Mr. Webster. HRR also states that the proposed transaction would facilitate Mr. Webster's longer-term plans to dissolve MHR after resolving MHR's corporate and tax affairs.

According to HRR, the proposed transaction does not include an interchange commitment. HRR certifies that its projected annual revenue will not exceed $5 million and that the proposed transaction will not result in HRR's becoming a Class I or II rail carrier.

The earliest this transaction may be consummated is August 13, 2022, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than August 5, 2022 (at least seven days before the exemption becomes effective).

All pleadings, referring to Docket No. FD 36632, must be filed with the Surface Transportation Board either via e-filing on the Board's website or in writing addressed to 395 E Street SW, Washington, DC 20423-0001. In addition, a copy of each pleading must be served on HRR's representative, Robert A. Wimbish, Fletcher & Sippel LLC, 29 North Wacker Drive, Suite 800, Chicago, IL 60606-3208.

According to HRR, this action is categorically excluded from environmental review under 49 CFR 1105.6(c) and from historic preservation reporting requirements under 49 CFR 1105.8(b).

Board decisions and notices are available at www.stb.gov.

Decided: July 25, 2022.
By the Board, Mai T. Dinh, Director, Office of Proceedings.
Kenyatta Clay,
Clearance Clerk.

[FR Doc. 2022-16314 Filed 7-28-22; 8:45 am]

BILLING CODE 4915-01-P